DEPARTMENT OF THE INTERIOR

Bureau of Indian Affairs

[AAK6006201 134A2100DD AOR3B30.999900]

Intent To Prepare a Programmatic Environmental Impact Statement for the Proposed Integrated Resource Management Plan for the Colville Reservation in Okanogan and Ferry Counties, WA

AGENCY: Bureau of Indian Affairs, Interior.

ACTION: Notice.

SUMMARY: This notice advises the public that the Bureau of Indian Affairs (BIA), in cooperation with the Confederated Tribes of the Colville Reservation (Tribes), intends to gather information necessary to prepare a programmatic environmental impact statement (Programmatic EIS) for the proposed Integrated Resource Management Plan (IRMP) for the Colville Reservation in Okanogan and Ferry Counties, Washington. This notice also announces public scoping meetings to identify potential issues and content for inclusion in the Programmatic EIS.

DATES: The dates and locations of public scoping meetings will be published in the Omak-Okanogan County Chronicle, the Statesman Examiner, the Star, and the Tribal Tribune. Additional information will also be posted at the Tribes' Web site: www.colvilletribes.com. Written comments must arrive within 30 days following the public scoping meetings.

ADDRESSES: Comments may be submitted by mail, email, hand carry or fax to: Dr. BJ Howerton, Environmental Services Manager, BIA Northwest Regional Office, 911 NE 11th Avenue, Portland, OR 97232-4169, Phone: (503) 231-6749, Fax: (503) 231-2275, Email: bj.howerton@bia.gov; or Debra Wulff, BIA Superintendent, Colville Agency, Bureau of Indian Affairs, P.O. Box 111, Nespelem, WA 99155-0111, Phone: (509) 634-2316, Fax: (509) 634-2355, Email: debra.wulff@bia.gov.

FOR FURTHER INFORMATION CONTACT: Dr. BJ Howerton at (503) 231-6749 or bj.howerton@bia.gov or Debra Wulff at (509) 634-2316 or debra.wulff@bia.gov.

SUPPLEMENTARY INFORMATION: The proposed action is the preparation of an IRMP for the Colville Reservation and the BIA approval of long-term natural resource planning goals and objectives for the Colville Reservation. The Tribes may use the Programmatic EIS for tiered, project-specific environmental assessments to cover specific actions as the IRMP is implemented.

The Tribes have managed their natural resources under the goals and objectives of an IRMP from 2000 to 2014. The new IRMP will replace the expiring plan. The Programmatic EIS will consider a proposed strategy in the IRMP that enhances the existing plan, where timber harvesting and livestock grazing levels remain at the existing levels with improved scheduling based on more accurate mapping data, open ground modeling and current forest inventory data. The strategy would include improved management practices to reduce erosion from forest roads, increase enforcement of livestock rotation requirements, and provide a formal project review process to ensure compliance with the IRMP and tribal resource codes.

Other alternative forest management strategies to be considered include: (1) A forest restoration strategy to emphasize thinning through the forest to return to historic conditions with a reduced harvest level, (2) an accelerated harvest strategy intended to maximize revenue to the Tribes, and (3) a No Forest Management strategy that would end timber harvesting.

Rangeland management alternatives include: (1) A strategy to rest and rotate range units on a yearly basis, (2) a strategy to increase livestock grazing by allowing additional grazing by off-reservation cattle ranchers, and (3) a strategy to eliminate livestock grazing altogether.

No Action or continuation of the current IRMP goals and objectives will also be considered along with any additional strategies or alternatives that may be developed as a result of public scoping.

Significant issues to be covered during the scoping process may include, but will not be limited to air quality, geology and soils, surface and groundwater resources, wildlife habitat, threatened and endangered species, cultural resources, socioeconomic conditions, land use, aesthetics, and Indian trust resources.

Directions for Submitting Public Comments

Please include your name, return address, and the caption “Programmatic EIS, Colville Reservation IRMP” on the first page of any written comments you submit. You may also submit comments at the public scoping meetings.

The public scoping meetings will be held to seek comments from the Tribal Business Council, resource managers, agency representatives, and community members concerning the planning and environmental issues surrounding the use of natural resources of the Colville Reservation. The meetings will be held at various Colville Reservation communities and notices will be published in Omak-Okanogan County Chronicle, the Statesman Examiner, the Star, and the Tribal Tribune. Additional information will also be posted at the Tribe's Web site: www.colvilletribes.com.

Public Availability of Comments

Comments, including names and addresses of respondents, will be available for public review at the BIA address shown in the ADDRESSES section of this notice, during regular business hours, Monday through Friday, except holidays. Before including your address, phone number, email address, or other personal identifying information in your comment, you should be aware that your entire comment—including your personal identifying information—may be made publicly available at any time. While you can ask us in your comment to withhold your personal identifying information from public review, we cannot guarantee that we will be able to do so.

Authority

This notice is published in accordance with sections 1503.1 of the Council on Environmental Quality Regulations (40 CFR parts 1500 through 1508) and Sec. 46.305 of the Department of the Interior Regulations (43 CFR Part 46), implementing the procedural requirements of NEPA, as amended (42 U.S.C. 4321 et seq.), and is in the exercise of authority delegated to the Assistant Secretary—Indian Affairs, by part 209 of the Departmental Manual.

Dated: November 10, 2014.
Kevin Washburn,
Assistant Secretary—Indian Affairs.

[FR Doc. 2014-27682 Filed 11-20-14; 8:45 am]

BILLING CODE 4310-W7-P